DEPARTMENT OF HEALTH AND HUMAN SERVICES

Request for Nominations for the Advisory Committee on Training in Primary Care Medicine and Dentistry

AGENCY: Health Resources and Services Administration (HRSA), Department of Health and Human Services (HHS).

ACTION: Notice of request for nominations.

SUMMARY: HRSA is requesting nominations to fill vacancies on the Advisory Committee on Training in Primary Care Medicine and Dentistry (ACTPCMD). The ACTPCMD is authorized by Section 749 of the Public Health Service (PHS) Act. The Advisory Committee is governed by provisions of the Federal Advisory Committee Act (FACA), as amended, which sets forth standards for the formation and use of advisory committees, and applies to the extent that the provisions of FACA do not conflict with the requirements of PHS Act Section 749.

DATES: HRSA will receive nominations on a continuous basis.

ADDRESSES: Written nominations for membership can be submitted by mail to Advisory Council Operations, Bureau of Health Workforce, HRSA, Room 11W45C, 5600 Fishers Lane, Rockville, Maryland 20857 or sent by email to BHWAdvisoryCouncilFRN@hrsa.gov.

FOR FURTHER INFORMATION CONTACT: Kennita R. Carter, MD, Designated Federal Official, ACTPCMD at 301-945-3505 or email kcarter@hrsa.gov. A copy of the current committee membership, charter, and reports can be obtained by accessing the ACTPCMD website https://www.hrsa.gov/advisory-committees/primarycare-dentist/index.html.

SUPPLEMENTARY INFORMATION: The ACTPCMD provides advice and recommendations to the Secretary of the Department of Health and Human Services (Secretary), the Senate Committee on Health, Education, Labor and Pensions, and the House of Representatives Committee on Energy and Commerce on matters concerning policy, program development, and other matters of significance concerning the medicine and dentistry activities under Section 747 of the PHS Act, as it existed upon the enactment of Section 749 of the PHS Act in 1998. In addition, the ACTPCMD develops, publishes, and implements performance measures and longitudinal evaluations for programs under Part C of Title VII of the PHS Act, as well as recommends appropriation levels for programs under this part. Meetings are held twice a year.

Specifically, HRSA is requesting nominations for voting members of the ACTPCMD representing allopathic medicine, osteopathic medicine, family medicine, general internal medicine, general pediatrics, physician assistant, general dentistry, pediatric dentistry, public health dentistry, dental hygiene, advanced practice nurse programs, and other health professionals engaged in primary care or oral health interprofessional training. Among these nominations, students, residents, or fellows representing allopathic medicine, osteopathic medicine, physician assistant, or dentistry are encouraged to apply.

In making such appointments, the Secretary shall ensure a fair balance between the health professions, that at least 75 percent of the members of the ACTPCMD are health professionals, a broad geographic of representation of members, and a balance between urban and rural members. Members shall be appointed based on their competence, interest, and knowledge of the mission of the profession involved. As required by PHS Act section 749(b)(3), the Secretary will also ensure the adequate representation of women and minorities.

HHS will consider nominations of all qualified individuals with the areas of subject matter expertise noted above. Individuals may nominate themselves or other individuals. Professional associations and organizations may nominate one or more qualified persons for membership. Nominations shall state that the nominee is willing to serve as a member of the ACTPCMD and appears to have no conflict of interest that would preclude the ACTPCMD membership. Potential candidates will be asked to provide detailed information concerning financial interests, consultancies, research grants, and/or contracts that might be affected by recommendations of the ACTPCMD to permit evaluation of possible sources of conflicts of interest.

A nomination package should include the following information for each nominee:

(1) A letter of nomination from an employer, a colleague, or a professional organization stating the name, affiliation, and contact information for the nominee, the basis for the nomination (i.e., what specific attributes, perspectives, and/or skills does the individual possess that would benefit the workings of the ACTPCMD, and the nominee's field(s) of expertise);

(2) A letter of interest from the nominee stating the reasons they would like to serve on the ACTPCMD;

(3) A biographical sketch of the nominee, a copy of his/her curriculum vitae, and his/her contact information (address, daytime telephone number, and email address); and

(4) The name, address, daytime telephone number, and email address at which the nominator can be contacted.

Nominations will be considered as vacancies occur on the ACTPCMD. If you submitted a nomination more than three years ago, please resubmit an updated nomination to be considered for committee vacancies.

HHS strives to ensure that the membership of HHS federal advisory committees are balanced in terms of points of view represented and the committee's function. The Department encourages nominations of qualified candidates from all groups and locations. Appointment to the ACTPCMD shall be made without discrimination on the basis of age, race, ethnicity, gender, sexual orientation, disability, and cultural, religious, or socioeconomic status.

Amy P. McNulty,
Acting Director, Division of the Executive Secretariat.

[FR Doc. 2018-18343 Filed 8-23-18; 8:45 am]

BILLING CODE 4165-15-P